DEPARTMENT OF COMMERCE

International Trade Administration

[A-570-129, C-489-806]

Notice of Opportunity To Request Administrative Review; Correction and Extension of Certain Deadlines: Certain Walk-Behind Lawn Mowers and Parts Thereof From the People's Republic of China and Certain Pasta From the Republic of Türkiye

AGENCY: Enforcement and Compliance, International Trade Administration, Department of Commerce.

ACTION: Notice; correction.

SUMMARY: The U.S. Department of Commerce (Commerce) published a notice in the Federal Register of July 1, 2024, of opportunity to request administrative reviews of orders, findings, or suspended investigations (opportunity notice). This notice inadvertently omitted listing the antidumping duty (AD) order on certain walk-behind lawn mowers and parts thereof (Lawn Mowers) from the People's Republic of China (China). This notice also inadvertently listed an incorrect period of review (POR) for the countervailing duty (CVD) order on certain pasta (Pasta) from the Republic of Türkiye (Türkiye). Commerce is extending certain deadlines identified in the opportunity notice due to these errors.

FOR FURTHER INFORMATION CONTACT: Brenda E. Brown, Office of AD/CVD Operations, Customs Liaison Unit, Enforcement and Compliance, International Trade Administration, U.S. Department of Commerce, 1401 Constitution Avenue NW, Washington, DC 20230, telephone: (202) 482-4735.

SUPPLEMENTARY INFORMATION:

Background

Each year during the anniversary month of the publication of an AD or CVD order, finding, or suspended investigation, an interested party, as defined in section 771(9) of the Tariff Act of 1930, as amended, may request, in accordance with 19 CFR 351.213, that Commerce conduct an administrative review of that AD or CVD order, finding, or suspended investigation. Commerce notifies interested parties of the opportunity to request administrative review with the publication a Federal Register notice. The opportunity notice published on July 1, 2024, for AD and CVD orders with a July anniversary month, inadvertently did not provide notice of opportunity to request administrative review of the AD order on Lawn Mowers from China for the 7/1/2023 through 6/30/2024 POR.¹ This notice also inadvertently listed an incorrect POR for the CVD order on Pasta from Türkiye.

¹ See Antidumping or Countervailing Duty Order, Finding, or Suspended Investigation; Opportunity To Request Administrative Review, 89 FR 54437 (July 1, 2024).

Correction

In the Federal Register of July 1, 2024, in FR Doc. 2024-14404, on page 54438, correct the table by adding the following under the subheading “The People's Republic of China:” “Certain Walk-Behind Lawn Mowers and Parts Thereof, A-570-129; POR 7/1/23-6/30/24,” ² and on page 54439, correct the table by changing the POR from 1/1/22-12/31/22, to 1/1/23-12/31/23.³

² Id., 89 FR 54437, 54438.

³ Id., 89 FR 54437, 54439.

Extension of Time

Unless specifically identified below, the deadlines identified in the July 1, 2024 opportunity notice are unchanged.

Interested parties to the Lawn Mowers from China AD order and the Pasta from Türkiye CVD order have 30 days after the date of this correction notice to submit new or amended entries of appearance. Commerce will then finalize the annual inquiry service lists five business days thereafter. For ease of administration, please note that Commerce requests that law firms with more than one attorney representing interested parties in a proceeding designate a lead attorney to be included on the annual inquiry service list.

Interested parties may request, in accordance with 19 CFR 351.213, that Commerce conduct an administrative review of the Lawn Mowers from China AD order or the Pasta from Türkiye CVD order within 30 days of publication of this correction notice.

Commerce will publish in the Federal Register a notice of “Initiation of Administrative Review of Antidumping or Countervailing Duty Order, Finding, or Suspended Investigation” for requests received within 30 days of this correction notice. If Commerce does not timely receive a request for review of entries covered by the Lawn Mowers from China AD order or the Pasta from Türkiye CVD order, Commerce will instruct CBP to assess antidumping or countervailing duties on those entries at a rate equal to the cash deposit of estimated antidumping duties required on those entries at the time of entry, or withdrawal from warehouse, for consumption and to continue to collect the cash deposit previously ordered.

This notice is not required by statute but is published as a service to the international trade community.

Dated: September 19, 2024.
Scot Fullerton,
Acting Deputy Assistant Secretary for Antidumping and Countervailing Duty Operations.

[FR Doc. 2024-21915 Filed 9-24-24; 8:45 am]

BILLING CODE 3510-DS-P